DEPARTMENT OF DEFENSE

Office of the Secretary

[Transmittal No. 17-33]

Arms Sales Notification

AGENCY: Defense Security Cooperation Agency, Department of Defense.

ACTION: Notice.

SUMMARY: The Department of Defense is publishing the unclassified text of an arms sales notification.

FOR FURTHER INFORMATION CONTACT: Kathy Valadez, (703) 697-9217 or Pamela Young, (703) 697-9107; DSCA/DSA-RAN.

SUPPLEMENTARY INFORMATION: This 36(b)(1) arms sales notification is published to fulfill the requirements of section 155 of Public Law 104-164 dated July 21, 1996. The following is a copy of a letter to the Speaker of the House of Representatives, Transmittal 17-33 with attached Policy Justification and Sensitivity of Technology.

Dated: July 13, 2017.
Aaron Siegel,
Alternate OSD Federal Register Liaison Officer, Department of Defense.

Transmittal No. 17-33

Notice of Proposed Issuance of Letter of Offer Pursuant to Section 36(b)(1) of the Arms Export Control Act, as amended

(i) Prospective Purchaser: The Government of India

(ii) Total Estimated Value:

Major Defense Equipment * | $285.0 million
Other | $81.2 million
Total | $366.2 million

(iii) Description and Quantity or Quantities of Articles or Services under Consideration for Purchase:

Major Defense Equipment (MDE):

One (1) C-17 Transport Aircraft

Four (4) Engines, Turbofan F-117-PW-100

Non-MDE includes:

Also included in the proposed sale are one (1) AN/AAR-47 Missile Warning System, one (1) AN/ALE-47 Countermeasures Dispensing System (CMDS), one (1) AN/APX-119 Identification Friend or Foe (IFF) Transponder, precision navigation equipment, spare and repair parts, maintenance, support and test equipment, publications and technical documentation, warranty, quality assurance, ferry support, U.S. Government and contractor engineering, logistics and technical support services, and other related elements of logistics and program support.

(iv) Military Department: Air Force (X7-D-SAE)

(v) Prior Related Cases, if any: IN-D-SAC—$4.12B, 29 Jun 2011

(vi) Sales Commission, Fee, etc., Paid, Offered, or Agreed to be Paid: None

(vii) Sensitivity of Technology Contained in the Defense Article or Defense Services Proposed to be Sold: See Attached Annex

(viii) Date Report Delivered to Congress: 26 JUN 2017

* As defined in Section 47(6) of the Arms Export Control Act.

POLICY JUSTIFICATION

Government of India—C-17 Transport Aircraft

The Government of India has requested the possible sale of one (1) C-17 transport aircraft with four (4) Turbofan F-117-PW-100 engines. The sale would also include one (1) AN/AAR-47 Missile Warning System, one (1) AN/ALE-47 Countermeasures Dispensing System (CMDS), one (1) AN/APX-119 Identification Friend or Foe (IFF) Transponder, precision navigation equipment, spare and repair parts, maintenance, support and test equipment, publications and technical documentation, warranty, Quality Assurance, ferry support, U.S. Government and contractor engineering, logistics and technical support services, and other related elements of logistics and program support. The estimated cost is $366.2 million.

This proposed sale will contribute to the foreign policy and national security of the United States by helping to strengthen the U.S.-India relationship and to improve the security of an important partner which has been, and continues to be, an important force for economic progress and stability in South Asia.

The proposed sale will improve India's capability to meet current and future strategic airlift requirements. India lies in a region prone to natural disasters and will use the additional capability for Humanitarian Assistance and Disaster Relief (HA/DR). In addition, through this purchase India will be able to provide more rapid strategic combat airlift capabilities for its armed forces. India currently operates C-17 aircraft and will have no difficulty absorbing this aircraft into its armed forces.

The proposed sale will not alter the basic military balance in the region.

The principal contractor will be the Boeing Company, Chicago, IL. The purchaser typically requests offsets. Any offset agreement will be defined in negotiations between the purchaser and the contractor.

Implementation of this proposed sale will not require the assignment of any additional U.S. Government personnel or contractor representatives to India.

There will be no adverse impact on U.S. defense readiness as a result of this proposed sale.

Transmittal No. 17-33

Notice of Proposed Issuance of Letter of Offer Pursuant to Section 36(b)(1) of the Arms Export Control Act

Annex

Item No. vii

(vii) Sensitivity of Technology:

1. The Boeing C-17A Globemaster III military airlift aircraft is the most flexible cargo aircraft to enter the U.S. Air Force fleet. The C-17 is capable of strategic delivery of up to 170,900 pounds of personnel and/or equipment to main operating bases or forward operating locations. The aircraft is also capable short field landings with a full cargo load. The aircraft can perform tactical airlift and airdrop missions as well as transport litters and ambulatory patients during aeromedical evacuation when required. A fully integrated electronic cockpit and advanced cargo delivery system allow a crew of three: Pilot, co-pilot, and loadmaster, to operate the aircraft on any type of mission.

2. The AN/AAR-47 is a small, lightweight, passive, electro-optic, threat warning device used to detect surface-to-air missiles fired at helicopters and low-flying fixed-wing aircraft and automatically provide countermeasures, as well as audio and visual-sector warning messages to the aircrew. The basic system consists of multiple Optical Sensor Converter (OSC) units, a Computer Processor (CP) and a Control Indicator (CI). The set of OSC units, which normally consists of four, is mounted on the aircraft exterior to provide omni-directional protection. The OSC detects the rocket plume of missiles and sends appropriate signals to the CP for processing. The CP analyzes the data from each OSC and automatically deploys the appropriate countermeasures. The CP also contains comprehensive Built-in-Test (BIT) circuitry. The CI displays the incoming direction of the threat, so that the pilot can take appropriate action. Hardware is UNCLASSIFIED. Software is SECRET. Technical data and documentation to be provided are UNCLASSIFIED.

3. The AN/ALE-47 Countermeasures Dispensing System (CMDS) is an integrated, threat-adaptive, software-programmable dispensing system capable of dispensing chaff, flares, and active radio frequency expendables. The threats countered by the CMDS include radar-directed anti-aircraft artillery (AAA), radar command-guided missiles, radar homing guided missiles, and infrared (IR) guided missiles. The system is internally mounted and may be operated as a stand-alone system or may be integrated with other on-board electronic warfare and avionics systems. The AN/ALE-47 uses threat data received over the aircraft interfaces to assess the threat situation and to determine a response. Expendable decoys tailored to the immediate aircraft and threat environment may be dispensed using one of four operational modes. The hardware, technical data, and documentation to be provide are UNCLASSIFIED.

4. The AN/APX-119 Identification Friend or Foe (IFF) Digital Transponder is an identification system designed for command and control. It enables military and civilian air traffic control interrogation systems to identify aircraft. The hardware, technical data, and documentation to be provided are UNCLASSIFIED.

5. If a technologically advanced adversary were to obtain knowledge of the specific hardware and software elements, the information could be used to develop countermeasures or equivalent systems which might reduce weapon system effectiveness or be used in the development of a system with similar or advanced capabilities.

6. A determination has been made that the Government of India can provide substantially the same degree of protection for the sensitive technology being released as the U.S. Government. This proposed sale is necessary to the furtherance of the U.S. foreign policy and national security objectives outlined in the Policy Justification.

7. All defense articles and services listed in this transmittal are authorized for release and export to the Government of India.

[FR Doc. 2017-15006 Filed 7-17-17; 8:45 am]

BILLING CODE 5001-06-P